DEPARTMENT OF HOMELAND SECURITY

Transportation Security Administration

Intent To Request Extension From OMB of One Current Public Collection of Information: Law Enforcement/Federal Air Marshal Service Physical and Mental Health Certification

AGENCY: Transportation Security Administration, DHS.

ACTION: 60-Day notice.

SUMMARY: The Transportation Security Administration (TSA) invites public comment on one currently approved Information Collection Request (ICR), Office of Management and Budget (OMB) control number 1652-0043, abstracted below, that we will submit to OMB for an extension in compliance with the Paperwork Reduction Act (PRA). The ICR describes the nature of the information collection and its expected burden. The collection involves forms that applicants and incumbents are required to complete, regarding their physical and mental health history, for the position of Federal Air Marshal (FAM).

DATES: Send your comments by March 27, 2023.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0043; Law Enforcement/Federal Air Marshal Service Physical and Mental Health Certification. Pursuant to 49 U.S.C. 44917, TSA has authority to deploy Federal Air Marshals (FAMs) on passenger flights and to provide appropriate training, supervision, and equipment of FAMs. Pursuant to this authority, TSA requires that applicants/incumbents for FAM positions meet certain physical and mental health standards.

TSA has established medical guidelines designed to ensure FAMs can safely and effectively perform the tasks essential to the arduous, rigorous, and hazardous functions of the FAM position. The medical guidelines ensure a level of health status and physical and psychological fitness for this public safety law enforcement position which requires a high degree of responsibility. Medical guidelines are based on cognitive, physical, psychomotor, and psychological abilities related to the essential job functions of a FAM.

TSA uses a Practical Exercise Performance Requirements (PEPR) form, and a Treating Physician Status Report (TPSR) form to assist in the determination of physical health standards. These forms may be in conjunction with further evaluation requests as needed. Physical medical examinations include, but are not limited to, cardiac, pulmonary, audiometric, and visual acuity testing. Incumbent FAMs undergo medical examinations every other year until the age 45, and annually thereafter, while in a FAM position. Based on conditions identified during the pre-employment or recurrent periodic examination, the applicant/incumbent employee may be required to provide a completed PEPR form, or TPSR form, signed by a healthcare provider in order to determine if the FAM is medically qualified.

TSA uses a Mental Health Certification (MHC) form to facilitate the determination of applicants' ability to meet established mental health standards and safely and effectively perform the essential functions of the public safety law enforcement position. As part of the psychological assessment, applicants are required to complete the MHC form related to their mental health history. Applicants are asked questions that may be indicative of mental health conditions that may impact the ability to safely and effectively perform the essential functions of the position. All forms submitted by applicants and incumbents are sent directly to the Federal Air Marshal Service Medical Programs Section for initial screening via fax, mail, or in person. Individual responses may require further medical evaluation.

TSA estimates that the total annual burden for this collection is approximately 225 hours and the total annual respondents is 200. TSA estimates 100 health care providers will complete the PEPR forms for 50 applicants and 50 incumbent FAMs and complete the TPSR forms for 50 applicants and 50 incumbent FAMs, totaling 200 forms. TSA estimates it will take approximately 15 minutes (0.25 hours) for the healthcare provider to complete each of the 200 forms, for an annual hour burden of 50 hours. In addition, TSA estimates that the average round-trip travel time for the applicant's visit to the healthcare provider is approximately 1 hour, and the time waiting for the healthcare provider to complete the form is 0.05 hours for an annual hour burden of 75 hours. Finally, TSA assesses that 100 applicants must self-certify certain information regarding their mental health, using the MHC form. TSA estimates it will take 1 hour to complete the MHC form for an annual hour burden of 100 hours.

Dated: January 19, 2023.
Christina A. Walsh,
TSA Paperwork Reduction Act Officer, Information Technology.

[FR Doc. 2023-01417 Filed 1-24-23; 8:45 am]

BILLING CODE 9110-05-P